DEPARTMENT OF COMMERCE

International Trade Administration

[A-570-918]

Steel Wire Garment Hangers From the People's Republic of China; 2017-2018; Partial Rescission of the Tenth Antidumping Duty Administrative Review

AGENCY: Enforcement and Compliance, International Trade Administration, Department of Commerce.

SUMMARY: On December 11, 2018, the Department of Commerce (Commerce) published a notice of initiation of an administrative review of the antidumping duty order on steel wire garment hangers from the People's Republic of China (China). Based on M&B Metal Products Co., Ltd.'s (the petitioner) timely withdrawal of the requests for review of certain companies, we are now rescinding this administrative review for the period October 1, 2017, through September 30, 2018, with respect to two companies.

DATES: Applicable May 1, 2019.

FOR FURTHER INFORMATION CONTACT: Trenton Duncan, AD/CVD Operations, Office V, Enforcement and Compliance, International Trade Administration, U.S. Department of Commerce, 1401 Constitution Avenue NW, Washington, DC 20230; telephone (202) 482-3539.

SUPPLEMENTARY INFORMATION:

Background

On October 1, 2018, Commerce published a notice of “Opportunity to Request Administrative Review” of the antidumping order on steel wire garment hangers from China.¹ In October 2018, Commerce received timely requests to conduct administrative reviews of the antidumping duty order on steel wire garment hangers from China from the petitioner and Shanghai Wells Hanger Co., Ltd., and its two affiliates.² Based upon these requests, on December 11, 2018, Commerce published a notice of initiation of an administrative review of the order covering the period October 1, 2017, to September 30, 2018.³ Commerce initiated the administrative review with respect to four companies.⁴ On December 14, 2018, the petitioner withdrew its request for an administrative review of two companies.⁵

¹ See Antidumping or Countervailing Duty Order, Finding, or Suspended Investigation; Opportunity to Request Administrative Review, 83 FR 49358 (October 1, 2018).

² See the petitioner's letter, “Steel Wire Garment Hangers from China: Petitioner's Request for Tenth Administrative Review,” dated October 26, 2018; See Shanghai Wells' letter, “Steel Wire Garment Hangers from the People's Republic of China: Review Request,” dated October 31, 2018. In the first administrative review of the Order, Commerce found that Shanghai Wells Hanger Co., Ltd. and Hong Kong Wells Ltd. (collectively Shanghai Wells) are a single entity. See Steel Wire Garment Hangers from the People's Republic of China: Preliminary Results and Preliminary Rescission, in Part, of the First Antidumping Duty Administrative Review, 75 FR 68758, 68761 (November 9, 2010), unchanged in First Administrative Review of Steel Wire Garment Hangers from the People's Republic of China: Final Results and Final Partial Rescission of Antidumping Duty Administrative Review, 76 FR 27994, 27996 (May 13, 2011).

³ See Initiation of Antidumping and Countervailing Duty Administrative Reviews, 83 FR 63615 (December 11, 2018).

⁴ Id.

⁵ See the petitioner's letter, “Re: Tenth Administrative Review of Steel Wire Garment Hangers from China—Petitioner 's Withdrawal of Review Requests for Specific Companies” dated December 14, 2018.

Commerce exercised its discretion to toll all deadlines affected by the partial federal government closure from December 22, 2018, through the resumption of operations on January 29, 2019.⁶ If the new deadline falls on a non-business day, in accordance with Commerce's practice, the deadline will become the next business day. Accordingly, the revised deadline for the preliminary results of review is now August 12, 2019.

⁶ See Memorandum, “Deadlines Affected by the Partial Shutdown of the Federal Government,” dated January 28, 2019. All deadlines in this segment of the proceeding have been extended by 40 days.

Partial Rescission

Pursuant to 19 CFR 351.213(d)(1), the Secretary will rescind an administrative review, in whole or in part, if the party who requested the review withdraws the request within 90 days of the date of publication of notice of initiation of the requested review. The petitioner timely withdrew its review request, in part, and no other party requested a review of the companies for which the petitioner requested a review. Of the four companies for which the petitioner requested an administrative review, the petitioner withdrew its request for review of two companies, Hangzhou Qingqing Mechanical Co. Ltd. and Hangzhou Yingqing Material Co. Ltd. Accordingly, we are rescinding this review of steel wire garment hangers from China for the period October 1, 2017, through September 30, 2018, in part, with respect to these entities, in accordance with 19 CFR 351.213(d)(1).

This administrative review will continue with respect to Hong Kong Wells Ltd. and Shanghai Wells Hanger Co., Ltd.

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, during the period October 1, 2017, to September 30, 2018, in accordance with 19 CFR 351.212(c)(1)(i). Commerce intends to issue appropriate assessment instructions directly to CBP 15 days after publication of this notice in the Federal Register, if appropriate.

Notification to Importers

This notice serves as the only reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Tariff Act of 1930, as amended, and 19 CFR 351.213(d)(4).

Dated: April 25, 2019.
Gary Taverman,
Deputy Assistant Secretary for Antidumping and Countervailing Duty Operations.

[FR Doc. 2019-08827 Filed 4-30-19; 8:45 am]

BILLING CODE 3510-DS-P